DEPARTMENT OF DEFENSE

Defense Logistics Agency

Privacy Act of 1974; Systems of Records

AGENCY: Defense Logistics Agency.

ACTION: Notice to add a system of records.

SUMMARY: The Defense Logistics Agency proposes to add a system of records notice to its inventory of record systems subject to the Privacy Act of 1974 (5 U.S.C. 552a), as amended.

DATES: This action will be effective without further notice on December 23, 2005 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on October 5, 2005, to the House Committee on Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: November 17, 2005.
L.M. Bynum,
OSD Federal Register Liaison Officer, Department of Defense.

System name:

Information Technology Access and Control Records.

System location:

Director, Information Operations, Headquarters Defense Logistics Agency, ATTN: J-6, 8725 John J. Kingman Road, Stop 6226, Fort Belvoir, VA 22060-6221, and the Defense Logistics Agency field activities. Official mailing addresses are published as an appendix to DLA's compilation of systems of records notices.

Categories of individuals covered by the system:

Defense Logistics Agency (DLA) civilian and military personnel, contractor employees, and individuals requiring access to DLA-controlled networks, computer systems, and databases.

Categories of records in the system:

System contains documents relating to requests for and grants of access to DLA computer networks, systems, or databases. The records contain the individual's name; social security number; citizenship; physical and electronic addresses; work telephone numbers; office symbol; contractor/employee status; computer logon addresses, passwords, and user identification codes; type of access/permissions required; verification of need to know; dates of mandatory information assurance awareness training; and security clearance data. The system also captures details about programs, databases, functions, and sites accessed and/or used; dates and times of use; and information products created, received, or altered during use. The records may also contain details about access or functionality problems telephoned in for technical support along with resolution. For individuals who telecommute from home or a telework center, the records may contain the electronic address and telephone number at that location. For contractors, the system also contains the company name, contract number, and contract expiration date.

Authority for maintenance of the system:

5 U.S.C. 301, Departmental Regulations; 5 U.S.C. 302, Delegation of Authority; 10 U.S.C. 133, Under Secretary of Defense for Acquisition and Technology; 18 U.S.C. 1029, Access device fraud; E.O. 9397 (SSN); and E.O. 10450 (Security Requirements for Government Employees) as amended.

Purpose(s):

The system is maintained by DLA information Operations to control and track access to DLA-controlled networks, computer systems, and databases. The records may also be used by law enforcement officials to identify the occurrence of and assist in the prevention of computer misuse and/or crime. Statistical data, with all personal identifiers removed, may be used by management for system efficiency, workload calculation, or reporting purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DLA's compilation of systems of records notices apply to this system.

Policies and practices for storing, retrieving, accessing, retaining, and disposing of records:

Storage:

Records are stored in paper and electronic form.

Retrievability:

Data is retrieved by name, Social Security Number, or user identification code.

Safeguards:

Records are maintained in secure, limited access, or monitored work areas accessible only to authorized personnel. Electronic records are stored on computer systems employing software programs that monitor network traffic to identify unauthorized attempts to upload or change information. Access to computer systems is password and/or Public Key Infrastructure controlled. Electronic records are stored in encrypted form.

Retention and disposal:

Records are deleted when no longer needed for administrative, legal, audit, or other operational purposes. Records relating to contractor access are destroyed 3 years after contract completion or termination.

System manager(s) and address:

Director, Information Operations, ATTN: J-6, 8725 John J. Kingman Road, Stop 6226, Fort Belvoir, VA 22060-6221, and the Information Operations offices of DLA field activities. Official mailing addresses are published as an appendix to DLA's compilation of systems of records notices.

Notification procedure:

Individuals seeking to determine whether this system of records contains information about themselves should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.

Record access procedures:

Individuals seeking to access records about themselves contained in this system of records should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.

Contesting record procedures:

The DLA rules for accessing records, for contesting contents and appealing initial agency determinations are contained in 32 CFR part 323, or may be obtained from the Privacy Act Officer, Headquarters, Defense Logistics Agency, ATTN: DP, 8725 John J. Kingman Road, Stop 2533, Fort Belvoir, VA 22060-6221.

Record source categories:

Information is supplied by record subjects, their supervisors, and the personnel security staff. Some data, such as user identification codes, is supplied by the Information Technology staff. Details about access times and functions used are provided by the system.

Exemptions claimed for the system:

None.

[FR Doc. 05-23127 Filed 11-22-05; 8:45 am]

BILLING CODE 5001-06-M